DEPARTMENT OF COMMERCE

International Trade Administration

[A-560-840]

Aluminum Extrusions From Indonesia: Final Affirmative Determination of Sales at Less Than Fair Value; Correction

AGENCY: Enforcement and Compliance, International Trade Administration, Department of Commerce.

ACTION: Notice; correction.

SUMMARY: The U.S. Department of Commerce (Commerce) published notice in the Federal Register of October 3, 2024 in which Commerce announced the final determination of the less-than-fair-value (LTFV) investigation of aluminum extrusions from Indonesia for the period of investigation (POI), October 1, 2022, through September 30, 2023. This notice corrects the language in the “Continuation of Suspension of Liquidation” section of the Final Determination.

FOR FURTHER INFORMATION CONTACT: Samuel Brummitt, AD/CVD Operations, Office III, Enforcement and Compliance, International Trade Administration, U.S. Department of Commerce, 1401 Constitution Avenue NW, Washington, DC 20230; telephone: (202) 482-7851.

SUPPLEMENTARY INFORMATION:

Background

On October 3, 2024, Commerce published in the Federal Register the final determination of the LTFV investigation of aluminum extrusions from Indonesia investigation.¹ In that notice, we failed to include language regarding the suspension of liquidation of provisional measures in the companion countervailing duty (CVD) case in the “Continuation of Suspension of Liquidation” section.

¹ See Aluminum Extrusions from Indonesia: Final Affirmative Determination of Sales at Less Than Fair Value, 89 FR 80487 (October 3, 2024) (Final Determination).

Correction

In the Federal Register of October 3, 2024, in FR Doc 2024-22780, on page 80489, in the first column, add the following sentence at the end of the “Continuation of Suspension of Liquidation” section: “However, suspension of liquidation of provisional measures in the companion CVD case has been discontinued; ² therefore, we are not instructing CBP to collect cash deposits based upon the adjusted estimated weighted-average dumping margin for those export subsidies at this time.”

² See Aluminum Extrusions from Indonesia: Preliminary Affirmative Countervailing Duty Determination and Alignment of Final Determination With the Final Antidumping Duty Determination, 89 FR 17405 (March 11, 2024); see also section 703(d) of the Act, which states that the provisional measures may not be in effect for more than four months, which in the companion CVD case is 120 days after the publication of the preliminary determination, or July 8, 2024 (i.e., last day provisional measures are in effect).

Notification to Interested Parties

This notice is issued and published in accordance with sections 735(d) and 777(i) of the Tariff Act of 1930, as amended, and 19 CFR 351.210(c).

Dated: October 29, 2024.
Abdelali Elouaradia,
Deputy Assistant Secretary for Enforcement and Compliance.

[FR Doc. 2024-25581 Filed 11-1-24; 8:45 am]

BILLING CODE 3510-DS-P